DEPARTMENT OF ENERGY

Federal Energy Regulatory Commission

Combined Notice of Filings #2

Take notice that the Commission received the following electric rate filings:

Docket Numbers: ER11-3576-002; ER97-3583-006; ER11-3401-003; ER10-3138-002.

Applicants: Denver City Energy Associates, L.P., Golden Spread Electric Cooperative, Inc., Golden Spread Panhandle Wind Ranch, LLC, GS Electric Generating Cooperative Inc.

Description: Supplemental Information of Golden Spread Electric Cooperative, Inc. et al.

Filed Date: 09/14/2011.

Accession Number: 20110914-5050.

Comment Date: 5 p.m. Eastern Time on Wednesday, October 05, 2011.

Docket Numbers: ER11-3846-002.

Applicants: El Paso Electric Company.

Description: El Paso Electric Company submits tariff filing per 35: Compliance Filing of El Paso-Tucson Settlement to be effective 9/1/2011.

Filed Date: 09/15/2011.

Accession Number: 20110915-5124.

Comment Date: 5 p.m. Eastern Time on Thursday, October 06, 2011.

Docket Numbers: ER11-3884-001.

Applicants: El Paso Electric Company.

Description: El Paso Electric Company submits tariff filing per 35: Compliance Refiling of Rate Schedule No. 107 to be effective 9/1/2011.

Filed Date: 09/15/2011.

Accession Number: 20110915-5065.

Comment Date: 5 p.m. Eastern Time on Thursday, October 06, 2011.

Docket Numbers: ER11-4533-000.

Applicants: HIKO Energy, LLC.

Description: HIKO Energy, LLC submits tariff filing per 35.1: HIKO Energy LLC Market Based Rates &#38; Name Change to be effective 9/15/2011.

Filed Date: 09/15/2011.

Accession Number: 20110915-5055.

Comment Date: 5 p.m. Eastern Time on Thursday, October 06, 2011.

Docket Numbers: ER11-4534-000.

Applicants: Public Service Company of New Mexico.

Description: Public Service Company of New Mexico submits tariff filing per 35.13(a)(1): Amended and Restated Power Sale Agreement Filing to be effective 11/14/2011.

Filed Date: 09/15/2011.

Accession Number: 20110915-5071.

Comment Date: 5 p.m. Eastern Time on Thursday, October 06, 2011.

Docket Numbers: ER11-4535-000.

Applicants: Plymouth Rock Energy, LLC.

Description: Plymouth Rock Energy, LLC submits tariff filing per 35.1: Plymouth Rock Energy, LLC Baseline Tariff Filing to be effective 9/16/2011.

Filed Date: 09/15/2011.

Accession Number: 20110915-5097.

Comment Date: 5 p.m. Eastern Time on Thursday, October 06, 2011.

Docket Numbers: ER11-4536-000.

Applicants: Full Circle Renewables, LLC.

Description: Full Circle Renewables, LLC submits tariff filing per 35.12: Application for Market-Based Rate Authority to be effective 11/15/2011.

Filed Date: 09/15/2011.

Accession Number: 20110915-5098.

Comment Date: 5 p.m. Eastern Time on Thursday, October 06, 2011.

Docket Numbers: ER11-4537-000.

Applicants: Haleywest L.L.C.

Description: Haleywest L.L.C. submits notice of cancellation of its market-based rate tariff.

Filed Date: 09/14/2011.

Accession Number: 20110914-0043.

Comment Date: 5 p.m. Eastern Time on Wednesday, October 05, 2011.

Docket Numbers: ER11-4538-000.

Applicants: Yuma Power Limited Liability Company.

Description: Yuma Power Limited Liability Company submits notice of its market-based rate tariff cancellation.

Filed Date: 09/14/2011.

Accession Number: 20110914-0031.

Comment Date: 5 p.m. Eastern Time on Wednesday, October 05, 2011.

Docket Numbers: ER11-4539-000.

Applicants: Altair Energy Trading, Inc.

Description: Altair Energy Trading, Inc submits notice of cancellation of its market-based rate tariff effective 9/28/2011.

Filed Date: 09/14/2011.

Accession Number: 20110914-0050.

Comment Date: 5 p.m. Eastern Time on Wednesday, October 05, 2011.

Docket Numbers: ER11-4540-000.

Applicants: ISO New England Inc., New England Power Pool Participants Committee.

Description: ISO New England Inc. submits tariff filing per 35.13(a)(2)(iii: MR1 Revisions Relating to Real-Time Automated Mitigation of Supply Offers to be effective 12/31/9998.

Filed Date: 09/15/2011.

Accession Number: 20110915-5128.

Comment Date: 5 p.m. Eastern Time on Thursday, October 06, 2011.

Take notice that the Commission received the following electric securities filings:

Docket Numbers: ES11-45-000.

Applicants: Old Dominion Electric Cooperative, Inc.

Description: Application of Old Dominion Electric Cooperative under ES11-45, for Authority to Issue Short- and Long-Term Debt and Guarantees.

Filed Date: 09/15/2011.

Accession Number: 20110915-5116.

Comment Date: 5 p.m. Eastern Time on Thursday, October 06, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2011.
Nathaniel J. Davis, Sr.,
Deputy Secretary.

[FR Doc. 2011-24742 Filed 9-26-11; 8:45 am]

BILLING CODE 6717-01-P